DEPARTMENT OF COMMERCE

National Oceanic and Atmospheric Administration

[I.D. 080703C]

Endangered and Threatened Species; Take of Anadromous Fish

AGENCY: National Marine Fisheries Service (NMFS), National Oceanic and Atmospheric Administration (NOAA), Commerce.

ACTION: Applications for scientific research permit modifications (1369, 1335).

SUMMARY: Notice is hereby given that NMFS received applications to modify existing scientific research permits related to threatened Pacific salmon and steelhead. The proposed research is intended to increase knowledge of species listed under the Endangered Species Act (ESA) and to help guide management and conservation efforts.

DATES: Comments or requests for a public hearing on the permit modification requests must be received at the appropriate address or fax number (see ADDRESSES) no later than 5 p.m. Pacific daylight savings time on September 19, 2003.

ADDRESSES: Written comments on the modification requests should be sent to Protected Resources Division, NMFS, 525 NE Oregon Street, Suite 500, Portland, OR 97232-2737. Comments may also be sent via fax to 503-230-5435. Comments will not be accepted if submitted via e-mail or the Internet.

FOR FURTHER INFORMATION CONTACT: Garth Griffin, Portland, OR (ph: 503-231-2005, Fax: 503-230-5435, e-mail: Garth.Griffin@noaa.gov). Permit applications are available at http://www.nwr.noaa.gov.

SUPPLEMENTARY INFORMATION:

Authority

Scientific research permits are issued in accordance with Section 10(a)(1)(A) of the ESA (16 U.S.C. 1531 et. seq.) and Federal regulations governing listed fish and wildlife permits (50CFR Parts 222-226). NMFS issues permits and modifications based on findings that such permits and modifications: (1) Are applied for in good faith; (2) if granted and exercised, would not operate to the disadvantage of the listed species that are the subject of the permit; and (3) are consistent with the purposes and policy of section 2 of the ESA. Authority to take listed species is subject to conditions set forth in the permits and modifications.

Anyone requesting a hearing on the permit modification application listed in this notice should set out the specific reasons why a hearing would be appropriate (see ADDRESSES). The holding of such hearing is at the discretion of the Assistant Administrator for Fisheries, NOAA.

Species Covered in This Notice

The following listed species and evolutionarily significant units (ESUs) are covered in this notice:

Chinook salmon (O. tshawytscha): threatened naturally produced and artificially propagated Puget Sound (PS).

Permit Applications Received

Permit 1335-Modification 3

The U.S. Forest Service in Corvalis, Oregon requests a modification to permit 1335 for annual take of juvenile threatened artificially propagated PS chinook salmon associated with its current study in the Puget Sound basin, Washington State. The purposes of the research are to assess watershed conditions and factors limiting salmonid health and production, and evaluate watershed health under the Northwest Forest Plan. The activities will benefit listed fish by generating information to improve forest management.

Permit 1369-Modification 1

The King County Department of Natural Resources and Parks in Seattle, Washington requests a modification to permit 1369 for increased annual take of juvenile threatened naturally produced PS chinook salmon associated with an expansion of work sites under its current study. The purpose of the study is to investigate scientific issues pertaining to how salmonid habitat in King County can be protected while concurrently providing local farmers with the technical and regulatory means to drain their farmlands to continue agricultural production. This program will develop a comprehensive information base about the habitat quality; the extent of the current and potential salmonid use of habitat where most commercial agriculture occurs; and techniques to avoid, minimize, or mitigate agriculture-related impacts on listed salmonids and their habitat.

This notice is provided pursuant to section 10(c) of the ESA. NMFS will evaluate the applications and modification requests, associated documents, and any comments submitted to determine whether the applications and modification requests meet the requirements of section 10(a) of the ESA and Federal regulations. NOAA will not make any final determinations until after the end of the 30 day comment period. NMFS will publish notice of its final action in the Federal Register.

Dated: August 14, 2003.
Barbara Schroeder,
Acting Chief, Endangered Species Division, Office of Protected Resources, National Marine Fisheries Service.

[FR Doc. 03-21367 Filed 8-19-03; 8:45 am]

BILLING CODE 3510-22-S